DEPARTMENT OF ENERGY

Federal Energy Regulatory Commission

[Docket No. CP01-67-000]

Southwest Gas Storage Company; Notice of Application

January 29, 2001.

On January 17, 2001, Southwest Gas Storage Company (Southwest), P.O. Box 4967, Houston, Texas 77210-4967, filed in Docket No. CP01-67-000 an application pursuant to sections 7(b) and 7(c) of the Natural Gas Act (NGA) and subpart A of Part 157 of the Commission's Rules and Regulations for a certificate of public convenience and necessity authorizing Southwest to abandon by removal and replace certain pipeline facilities, and to recomplete five existing injection/withdrawal wells in the Howell Storage Field in Livingston County, Michigan, all as more fully set forth in the application which is open to the public for inspection. This filing may be viewed on the web at http://www.ferc.fed.us/online/rims.htm. (call 202-208-2222 for assistance).

Specifically, Southwest proposes to re-enter five existing wells and drill a horizontal lateral wellbore extension from each well and to replace existing 4-inch storage lines with 8-inch lines in two Phases. Southwest asserts that the completion of the wellbore extensions will improve the ratio of working gas to base gas, with working gas increasing by approximately 1.25 Bcf and the amount of base gas decreasing by a corresponding amount. Southwest further states the reworking of the wells will yield higher maximum withdrawal and maximum injection rates toward the beginning of withdrawal season, with the maximum withdrawal rate increasing from 360 MMcf/d to 410 MMcf/d and the maximum injection rate increasing from 120 MMcf/d to 150 MMcf/d, thus allowing Southwest to improve operation of the Howell Storage Field.

Southwest estimates the cost of Phase I, which involves the re-entering of two of the five existing wells, excluding the segment of pipe to be abandoned by removal, at approximately $1,683,500, while the estimated cost of Phase II, which involves the re-entering of the remaining three wells, is approximately $2,222,100. Southwest states that the cost of abandonment of the existing 4-inch storage lines is approximately $11,000.

Any questions regarding this application should be directed to William W. Grygar, Vice President of Rates and Regulatory Affairs, 5444 Westheimer Road, Houston, Texas 77056-5306 at (713) 989-7000.

There are two ways to become involved in the Commission's review of this project. First, any person wishing to obtain legal status by becoming a party to the proceedings for this project should, on or before February 20, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-2835 Filed 2-1-01; 8:45 am]

BILLING CODE 6717-01-M